DEPARTMENT OF LABOR

Office of Workers' Compensation Programs

Division of Coal Mine Workers' Compensation; Proposed Extension of Existing Collection; Comment Request

ACTION: Notice.

SUMMARY: Currently, the Office of Workers' Compensation Programs is soliciting comments concerning the proposed collection: Representative Payee Report (CM-623), Representative Payee Report, Short Form (CM-623S) and Physician's/Medical Officer's Statement (CM-787). A copy of the proposed information collection request can be obtained by contacting the office listed below in the addresses section of this Notice. This program helps to ensure that requested data can be provided in the desired format, reporting burden (time and financial resources) is minimized, collection instruments are clearly understood, and the impact of collection requirements on respondents can be properly assessed.

DATES: Written comments must be submitted by December 12, 2017.

ADDRESSES: You may submit comments by mail, delivery service, or by hand to Ms. Yoon Ferguson, U.S. Department of Labor, 200 Constitution Ave. NW., Room S-3323, Washington, DC 20210; by fax to (202) 354-9647; or by Email to ferguson.yoon@dol.gov. Please use only one method of transmission for comments (mail/delivery, fax, or Email). Please note that comments submitted after the comment period will not be considered.

SUPPLEMENTARY INFORMATION: The Department of Labor, as part of its continuing effort to reduce paperwork and respondent burden, conducts a preclearance consultation program to provide the general public and Federal agencies with an opportunity to comment on proposed and/or continuing collections of information in accordance with the Paperwork Reduction Act of 1995 (PRA95).

I. Background: The Division of Coal Mine Workers' Compensation administers the Black Lung Benefits Act (30 U.S.C. 901 et seq.) which provides benefits to coal miners totally disabled due to pneumoniosis, and their surviving dependents. The CM-623, Representative Payee Report is used to collect expenditure data regarding the disbursement of the beneficiary's benefits by the representative payee to assure that the beneficiary's needs are being met. The CM-623S, Representative Payee—Short Form, is a shortened version of the CM-623 that is used when the representative payee is a family member residing with the beneficiary. Currently, the representative payee completes the CM-623/CM-623S to provide a final accounting of benefits received on behalf of the beneficiary. Commonly, final utilization is due to the death of the beneficiary or when there is a change in representative payee determination. The CM-787, Physician's/Medical Officer's Statement is used to gather information from the beneficiary's physician about the capability of the beneficiary to manage monthly benefits. This form is used by OWCP to determine if it is in the beneficiary's best interest to have his/her benefits managed by another party. The regulatory authority for collecting this information is in 20 CFR 725.506, 510, 511, and 513. This information collection is currently approved for use through January 31, 2018.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks the approval for the extension of this currently-approved information collection in order to carry out its responsibility to administer the Black Lung Benefits Act.

Agency: Office of Workers' Compensation Programs.

Type of Review: Extension.

Title: Representative Payee Report (CM-623), Representative Payee Report, Short Form (CM-623S) and Physician's/Medical Officer's Statement (CM-787).

OMB Number: 1240-0020.

Agency Number: CM-623, CM-623S and CM-787.

Affected Public: Individuals or households, Business or other for-profit and Not-for-profit institutions.

Form | Time to complete | Frequency of response | Number of respondents | Number of responses | Hours burden
CM-623 | 90 | As Needed | 300 | 300 | 450
CM-623S | 10 | As Needed | 325 | 325 | 54
CM-787 | 15 | Once | 700 | 700 | 175
Totals |  |  | 1,325 | 1,325 | 679

Total Respondents: 1,325.

Total Annual Responses: 1,325.

Average Time per Response: 31 minutes.

Estimated Total Burden Hours: 679.

Frequency: On occasion.

Total Burden Cost (capital/startup): $0.

Total Burden Cost (operating/maintenance): $0.

Comments submitted in response to this notice will be summarized and/or included in the request for Office of Management and Budget approval of the information collection request; they will also become a matter of public record.

Dated: October 3, 2017.
Yoon Ferguson,
Agency Clearance Officer, Office of Workers' Compensation Programs, U.S. Department of Labor.

[FR Doc. 2017-22163 Filed 10-12-17; 8:45 am]

BILLING CODE 4510-CK-P